DEPARTMENT OF ENERGY

Federal Energy Regulatory Commission

[Docket Nos. EG06-40-000, EG06-42-000, EG06-43-000, EG06-44-000, EG06-45-000, EG06-47-000, EG06-48-000, EG06-49-000, FC06-3-000]

Indeck Energy Services of Silver Springs, Inc.; FPL Energy Burleigh County Wind, LLC; Wind Capital Holdings, LLC; Cow Branch Wind Energy, LLC; Spindle Hill Energy LLC; MMC Chula Vista LLC; MMC Escondido LLC; Astoria Generating Company, L.P.; Invenergy Wind Europe LLC EEZ Sp. z o.o.; Notice of Effectiveness of Exempt Wholesale Generator or Foreign Utility Company Status

July 6, 2006.

Take notice that during the month of June 2006, the status of the above-captioned entities as Exempt Wholesale Generators or Foreign Utility Companies became effective by operation of the Commission's regulations. 18 CFR 366.7(a).

Magalie R. Salas,
Secretary.

[FR Doc. E6-11166 Filed 7-13-06; 8:45 am]

BILLING CODE 6717-01-P